DEPARTMENT OF HEALTH AND HUMAN SERVICES

National Institutes of Health

Proposed Collection; Comment Request; The National Epidemiologic Survey on Alcohol and Related Conditions

SUMMARY: In compliance with the requirement of Section 3506(c)(2)(A) of the Paperwork Reduction Act of 1995, for opportunity for public comment on proposed data collection projects, the National Institute on Alcohol Abuse and Alcoholism (NIAAA), the National Institutes of Health (NIH) will publish periodic summaries of proposed projects to be submitted to the Office of Management and Budget (OMB) for review and approval.

Proposed Collection

Title: The National Epidemiologic Survey on Alcohol and Related Conditions. Type of Information Collect Request: New. Need and Use of Information Collection: This study will determine the incidence and prevalence of alcohol used disorders in a representative sample of the United States population with the primary purpose of estimating the extent and distribution of alcohol consumption, alcohol use disorders and their associated psychological and medical disabilities across major sociodemographic subgroups. The primary objectives of this first wave of this longitudinal study is to understand the relationships between alcohol consumption, alcohol use disorders and their related disabilities with a view towards designing more effective treatment and intervention programs. The findings will provide valuable information concerning: (1) Trends in alcohol use disorders and their related disabilities in subgroups of the population of special concern; (2) identification of subgroups at high risk for alcohol use disorders that may be complicated by associated psychological and medical disabilities; (3) incidence of alcohol use disorders and their Associated disabilities with a view toward understanding their natural history; (4) treatment utilization of alcohol use disorders in order to determine unmet treatment need and linguistic, social, economic and cultural barriers to treatment; (5) the college-aged segment of the population at high risk for binge drinking and its adverse consequences; and (6) the identification of safe and hazardous levels of drinking as they relate to the development of alcohol use disorders and their associated disabilities. Frequency of Response: On occasion. Affected Public: Individuals Type of Respondents: Adults. Estimated Number of Respondents: 48,000; Estimated Number of Responses per Respondent: 1; Average Burden Hours Per Response: 1.00; and Estimated Total Annual Burden Hours Requested: 48,000. The annualized cost to respondents is estimated at: $576,000.00. There are no Capital Costs to report. There are no Operating or Maintenance Costs to report.

Request for Comments

Written comments and/or suggestions from the public and affected agencies are invited on one or more of the following points: (1) Whether the proposed collection of information is necessary for the proper performance of the function of the agency, including whether the information will have practical utility; (2) The accuracy of the agency's estimate of the burden of the proposed collection of information, including the validity of the methodology and assumptions used; (3) Ways to enhance the quality, utility, and clarity of the information to be collection; and (4) Ways to minimize the burden of the collection of information on those who are to respond, including the use of appropriate automated, electric, mechanical, or other technical collection techniques or other forms of information technology.

FOR FURTHER INFORMATION CONTACT: To request more information on the proposed project or to obtain a copy of the data collection plans and instruments, contact Dr. Bridget Grant, Chief, Biometry Branch, Division of Biometry and Epidemiology, NIAAA, NIH, Willco Building, Suite 514, 6000 Executive Boulevard, Bethesda, Maryland 20892-7003, or call non-toll-free number (301) 443-7370 or E-mail your request, including your address to Bgrant@willco.niaaa.nih.gov.

Comments Due Date:

Comments regarding this information collection are best assured of having their full effect if received on or before December 18, 2000.

Dated: October 4, 2000.
Stephen Long,
Executive Officer, NIAAA.

[FR Doc. 00-26583 Filed 10-16-00; 8:45 am]

BILLING CODE 4140-01-M